FEDERAL COMMUNICATIONS COMMISSION

47 CFR Part 2

[IB Docket No. 01-185, ET Docket No. 95-18, DA #01-2314]

Flexibility for Delivery of Communications by Mobile Satellite Service Providers in the 2 GHz band, the L-Band, and the 1.6/2.4 GHz Band

AGENCY: Federal Communications Commission.

ACTION: Proposed rule; extension of comment period.

SUMMARY: In this document, the Commission extends the period for comment and reply comment in the proceeding that it initiated to explore proposals to bring flexibility to the delivery of communications by Mobile Satellite Service (“MSS”) providers. The Commission extends the period for comment at the request of the Cellular Telecommunications & Internet Association (CTIA) in order to allow sufficient time to establish the most complete and well-developed record possible on which to base a decision.

DATES: Comments are due October 19, 2001, and Reply Comments are due November 5, 2001.

ADDRESSES: Send comments and reply comments to the Office of the Secretary, Federal Communications Commission, Washington, DC 20554.

FOR FURTHER INFORMATION CONTACT: Breck Blalock, 202-418-8191.

SUPPLEMENTARY INFORMATION: This is a summary of the Order Extending Comment Period in IB Docket No. 01-185, ET Docket No. 95-18, DA 01-2314, adopted October 4, 2001. The complete text of this Order is available for inspection and copying during normal business hours in the FCC Reference Information Center, Courtyard Level, 445 12th Street, SW., Washington, DC 20554 and also may be purchased from the Commission's copy contractor, Qualex International, Portals II, 445 12th Street, SW., Room CY-B402, Washington, DC 20554.

1. The Commission extends the comment period deadlines established in the Notice of Proposed Rulemaking in this proceeding (66 FR 47621, September 13, 2001) from October 11, 2001 to October 19, 2001, and the reply comment period from October 25, 2001 to November 5, 2001.

Ordering Clause

2. The request of CTIA to extend the deadline for filing comments in this proceeding, filed September 25, 2001, is granted to the extent indicated, pursuant to § 1.46 of the Commission's Rules, 47 CFR 1.46.

Federal Communications Commission.
John V. Giusti,
Chief, International Spectrum and Communications Policy Branch.

[FR Doc. 01-26508 Filed 10-17-01; 12:58 pm]

BILLING CODE 6712-01-P